DEPARTMENT OF HOMELAND SECURITY

Federal Emergency Management Agency

[Docket ID: FEMA-2009-0001]

Agency Information Collection Activities: Proposed Collection; Comment Request, 1660-NEW; FEMA Preparedness Grants: Interoperable Emergency Communications Grant Program (IECGP)

AGENCY: Federal Emergency Management Agency, DHS.

ACTION: Notice; 60-day notice and request for comments; new information collection; OMB No. 1660-NEW; FEMA Form 089-2, IECGP Investment Justification.

SUMMARY: The Federal Emergency Management Agency, as part of its continuing effort to reduce paperwork and respondent burden, invites the general public and other Federal agencies to take this opportunity to comment on a proposed new information collection. In accordance with the Paperwork Reduction Act of 1995, this Notice seeks comments concerning information collection activities required to administer the Interoperable Emergency Communications Grant Program (IECGP).

DATES: Comments must be submitted on or before January 19, 2010.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, Wash, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Alex Mrazik, Program Analyst, Grant Programs Directorate, 202-786-9732 for additional information. You may contact the Records Management Branch for copies of the proposed collection of information at facsimile number (202) 646-3347 or e-mail address: FEMA-Information-Collections@dhs.gov.

SUPPLEMENTARY INFORMATION: The Interoperable Emergency Communications Grant Program (IECGP) is mandated by Section 1809 of the Homeland Security Act of 2002 (6 U.S.C. 579), as amended by Section 301, Title III of the Implementing Recommendations of the 9/11 Commission Act of 2007 (Pub. L. 110-053), which states the Secretary shall establish the Interoperable Emergency Communications Grant Program to make grants to States to carry out initiatives to improve local, tribal, statewide, regional, national and, where appropriate, international interoperable emergency communications, including communications in collective response to natural disasters, acts of terrorism, and other man-made disasters. Further, the legislation authorizes the FEMA Administrator to administer the IECGP, mandates that the use of grants is consistent with guidance established by the Director of Emergency Communications, and mandates a State receiving an IECGP grant use the funds to implement that State's Statewide Interoperability Plan required under section 7303(f) of the Intelligence Reform and Terrorism Prevention Act of 2004 (6 U.S.C. 194(f)) and approved under subsection (e) and to assist with activities determined by the Secretary to be integral to interoperable emergency communications.

Collection of Information

Title: FEMA Preparedness Grants: Interoperable Emergency Communications Grant Program (IECGP).

Type of Information Collection: New information collection.

OMB Number: 1660-NEW.

Form Titles and Numbers: FEMA Form 089-2, IECGP Investment Justification.

Abstract: The IECGP is an important tool among a comprehensive set of measures to help strengthen the Nation against risks associated with potential terrorist attacks. FEMA uses the information to evaluate applicants' familiarity with the national preparedness architecture and identify how elements of this architecture have been incorporated into regional/State/local planning, operations, and investments. Respondents are comprised of State, local, and tribal entities.

Affected Public: State, Local or Tribal Government.

Estimated Total Annual Burden Hours: 37,362 Hours.

Table A.12—Estimated Annualized Burden Hours and Costs
Type of respondent | Form name/ form number | No. of respondents | No. of responses per respondent | Total no. of responses | Average burden per response (in hours) | Total annual burden (in hours) | Average hourly wage rate* | Total annual respondent cost
State, Local or Tribal Government | IECGP Investment Justification/FEMA Form 089-2 | 56 | 1 | 56 | 547 | 30,632 | $36.15 | $1,107,346.80
State, Local or Tribal Government | SCIP Implementation Report/No Form | 56 | 1 | 56 | 100 | 5,600 | $36.15 | $202,440.00
State, Local or Tribal Government | Communication System Life Cycle/No Form | 56 | 1 | 56 | 25 | 1,400 | $36.15 | $50,610.00
Total |  | 39 |  |  |  | 37,632 |  | $1,360,396.80

Estimated Cost: There is no annual reporting or recordkeeping costs associated with this collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-27557 Filed 11-16-09; 8:45 am]

BILLING CODE 9111-78-P